DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Nikki McKinney, Associate Deputy Secretary

Vice-Chair—Carolyn Angus-Hornbuckle, Assistant Secretary for Administration and Management

Alternate Vice-Chair—Sydney Rose, Chief Human Capital Officer

Rotating Membership—Appointments Expire on 09/30/26

BLS Tony Williams, Associate Commissioner for Technology and Survey Processing

EBSA Amber Rivers, Director of Health Plan Standards and Compliance Assistance

ETA Nicholas Lalpuis, Regional Administrator, Dallas

ILAB Molly McCoy, Associate Deputy Undersecretary

MSHA Brian Goepfert, Administrator for Mine Safety and Health Enforcement

OASAM Carl Campbell, Senior Procurement Executive

ODEP Jennifer Sheehy, Deputy Assistant Secretary

OFCCP Tina Williams, Director, Division of Policy and Program Development

OLMS Emily Prosise, Regional Director, St. Louis, MO

OSHA Eric Harbin, Regional Administrator, Dallas

OWCP Christy Long, National Administrator of Field Operations, Seattle

SOL John Rainwater, Regional Solicitor, Dallas

VETS Ivan Denton, Director, National Programs

WHD Ruben Rosalez, Regional Administrator, San Francisco

FOR FURTHER INFORMATION CONTACT: Tania Burkley, Chief, Division of Executive Resources, Room N2453, U.S. Department of Labor, Frances Perkins Building, 200 Constitution Ave. NW, Washington, DC 20210, telephone: (202) 693-7638.

Signed at Washington, DC.
Carolyn Angus-Hornbuckle,
Assistant Secretary for Administration and Management.

[FR Doc. 2023-22745 Filed 10-13-23; 8:45 am]

BILLING CODE 4510-04-P